FEDERAL COMMUNICATIONS COMMISSION

[CG Docket No. 25-165; DA 25-1002; FR ID 327339]

Termination of Dormant Proceedings

AGENCY: Federal Communications Commission.

ACTION: Notice.

SUMMARY: In this document, the Consumer and Governmental Affairs Bureau announces the availability of the FCC order terminating, as dormant, certain docketed Commission proceedings.

DATES: The dockets are terminated as of January 30, 2026.

FOR FURTHER INFORMATION CONTACT: Zac Champ, Consumer Policy Division, Consumer and Governmental Affairs Bureau, email at zac.champ@fcc.gov or by phone at (202) 418-1495.

SUPPLEMENTARY INFORMATION: The Commission's Order, Ninth Dormant Proceedings Termination Order, DA 25-1002, adopted and released December 3, 2025, is available in CG Docket No. 25-165. The full text of document DA 25-1002 and the associated spreadsheet listing the proceedings terminated as dormant are available for public inspection on the Commission's website at https://www.fcc.gov/document/fcc-closes-more-2000-inactive-proceedings. These documents and any documents filed in this matter may also be found by searching ECFS at: https://www.fcc.gov/ecfs. To request this document in accessible formats for people with disabilities (e.g., Braille, large print, electronic files, audio format) or to request reasonable accommodations (e.g., accessible format documents, sign language interpreters, CART), send an email to fcc504@fcc.gov or call the FCC's Consumer and Governmental Affairs Bureau at (202) 418-0530.

Federal Communications Commission.
Robert Garza,
Legal Advisor, Consumer and Governmental Affairs Bureau.

[FR Doc. 2026-01831 Filed 1-29-26; 8:45 am]

BILLING CODE 6712-01-P